DEPARTMENT OF THE INTERIOR

National Park Service

[NPS-WASO-NAGPRA-NPS0038167; PPWOCRADN0-PCU00RP14.R50000]

Notice of Inventory Completion: New York University, College of Dentistry, New York, NY

AGENCY: National Park Service, Interior.

ACTION: Notice.

SUMMARY: In accordance with the Native American Graves Protection and Repatriation Act (NAGPRA), NYU Dentistry has completed an inventory of human remains and has determined that there is a cultural affiliation between the human remains and Indian Tribes or Native Hawaiian organizations in this notice.

DATES: Repatriation of the human remains in this notice may occur on or after July 29, 2024.

ADDRESSES: Joshua Hayes Johnson, NYU Dentistry, 345 E 24th Street, New York, NY 10010, telephone (646) 341-1016, email jj65@nyu.edu.

SUPPLEMENTARY INFORMATION: This notice is published as part of the National Park Service's administrative responsibilities under NAGPRA. The determinations in this notice are the sole responsibility of NYU Dentistry, and additional information on the determinations in this notice, including the results of consultation, can be found in its inventory or related records. The National Park Service is not responsible for the determinations in this notice.

Abstract of Information Available

Human remains representing, at minimum, nine individuals were removed from several counties in Tennessee. The nine individuals consist of four crania and five mandibles. No associated funerary objects are present. The human remains were removed from the following sites and localities in Tennessee: two crania from an unknown locality in TN; one mandible from Steward County, TN; one cranium 3.5 miles above Franklin, Williamson County, TN; one mandible from Dayton, TN; three mandibles from Lenoir City, TN; and one cranium from Lenoir City, Loudon County, TN.

Cultural Affiliation

Based on the information available and the results of consultation, cultural affiliation is reasonably identified by the geographical location or acquisition history of the human remains.

Determinations

NYU Dentistry has determined that:

• The human remains described in this notice represent the physical remains of nine individuals of Native American ancestry.

• There is a connection between the human remains and The Muscogee (Creek) Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after July 29, 2024. If competing requests for repatriation are received, NYU Dentistry must determine the most appropriate requestor prior to repatriation. Requests for joint repatriation of the human remains are considered a single request and not competing requests. NYU Dentistry is responsible for sending a copy of this notice to the Indian Tribes and Native Hawaiian organizations identified in this notice.

Authority: Native American Graves Protection and Repatriation Act, 25 U.S.C. 3003, and the implementing regulations, 43 CFR 10.10.

Dated: June 14, 2024.
Mariah Soriano,
Acting Manager, National NAGPRA Program.

[FR Doc. 2024-14102 Filed 6-26-24; 8:45 am]

BILLING CODE 4312-52-P